DEPARTMENT OF THE INTERIOR

Bureau of Land Management

[WAOR106084175, WAOR 056583]

Public Land Order No. 7946; Extension of Public Land Order No. 7608 for Chief Joseph Dam Additional Units Project, Washington

AGENCY: Bureau of Land Management, Interior.

ACTION: Public Land Order.

SUMMARY: This Order extends the duration of the withdrawal created by Public Land Order (PLO) No. 7608 for an additional 20-year period. Subject to valid existing rights, PLO No. 7608 withdrew 400.27 acres of public lands from settlement, sale, location, or entry under the general land laws, including the United States mining laws, and transferred jurisdiction over those lands to the United States Department of the Army, Corps of Engineers, for the Chief Joseph Dam Additional Units Project for a period of 20 years.

DATES: This Order takes effect on August 7, 2024.

FOR FURTHER INFORMATION CONTACT: Luke Poff, Realty Specialist, BLM Oregon/Washington State Office, (503) 808-6249, by email at lpoff@blm.gov. For the United States Army Corps of Engineers (USACE), contact Cindy Luciano, Civil Works Program Manager, USACE Seattle District, (206) 316-4376, or by email at Cindy.L.Luciano@usace.army.mil. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The purpose of this extension is to continue to reserve the use of the land for the USACE's water management responsibilities at Chief Joseph Dam, which includes water impoundment and storage, management of grazing, wildlife habitat and mitigation areas, recreation, fire protection, public access, cultural resources, and realty actions. The extension will be under the terms and conditions agreed upon between the USACE and the Bureau of Land Management and may be revised by consent of both parties.

Order

By virtue of the authority vested in the Secretary of the Interior by Section 204(d) of the Federal Land Policy and Management Act of 1976, 43 U.S.C. 1714(d), it is ordered as follows:

1. PLO No. 7608 (69 FR 48253), which withdrew 400.27 acres of public lands from settlement, sale, location, or entry under the general land laws, including the United States mining laws, and transferred jurisdiction over those lands to the United States Department of the Army, Corps of Engineers, is hereby extended for an additional 20-year period. The following lands are affected by this Order:

Willamette Meridian, Washington

T. 29 N., R. 26 E.,

Sec. 9, SW¼SW¼;

Sec. 30, lot 2.

T. 30 N., R. 26 E.,

Sec. 25, NW¼NE¼;

Sec. 35, SW¼SE¼.

T. 30 N., R. 27 E.,

Sec. 28, SE¼SE¼;

Sec. 29, NE¼NW¼;

Sec. 34, SW¼NW¼ and NE¼SW¼.

T. 30 N., R. 28 E.,

Sec. 9, SE¼SE¼;

Sec. 14, NE¼SW¼.

The areas described aggregate 400.27 acres.

2. This withdrawal will expire 20 years from the effective date of this order unless, as a result of a review conducted prior to the expiration date pursuant to Section 204(f) of the Federal Land Policy and Management Act, the Secretary determines that the withdrawal shall be further extended.

(Authority: 43 U.S.C. 1714)

Robert T. Anderson,
Solicitor.

[FR Doc. 2024-17381 Filed 8-6-24; 8:45 am]

BILLING CODE 3720-58-P